NATIONAL SCIENCE FOUNDATION

DOE/NSF Nuclear Science Advisory Committee, 1176; Notice of Meeting

In accordance with the Federal Advisory Committee Act (Pub. L. 92-463, as amended), the National Science Foundation announces the following meeting.

Name: DOE/NSF Nuclear Science Advisory Committee (1176).

Date and Time: Thursday, March 6, 2003; 8:30 a.m.-6 p.m.; Friday, March 7, 2003; 8:30 a.m.-6 p.m.

Place: Stafford I Building, Room 1235, National Science Foundation, 4201 Wilson Blvd., Arlington, VA 22230.

Type of Meeting: Open.

Contact Person: Dr. Bradley D. Keister, Program Director for Nuclear Physics, National Science Foundation, 4201 Wilson Blvd., Arlington, VA 22230. Telephone: (703) 292-7377.

Purpose of Meeting: To provide advice and recommendations concerning the scientific programs of the NSF and DOE in the area of basic nuclear physics research.

AGENDA:

March 6, 2003

Introduction (R. Casten)

Report from DOE

Report from NSF

Discussion of long-range priorities charge from DOE Office of Science

Introduction of additional charges

Public Comment

March 7, 2003

Continued Discussion of additional charges

Dated: February 11, 2003.
Susanne Bolton,
Committee Management Officer.

[FR Doc. 03-3724 Filed 2-13-03; 8:45 am]

BILLING CODE 7555-01-M